ENVIRONMENTAL PROTECTION AGENCY

40 CFR Part 52

Approval and Promulgation of Implementation Plans

CFR Correction

In Title 40 of the Code of Federal Regulations, Part 52, § 52.2020 to End, revised as of July 1, 2017, on page 17, in § 52.2020, the table in paragraph (c)(1) is amended by removing the entries for Chapter 130—Standards for Products, Subchapter A—Portable Fuel Containers.

[FR Doc. 2018-11702 Filed 5-30-18; 8:45 am]

BILLING CODE 1301-00-D